ENVIRONMENTAL PROTECTION AGENCY

40 CFR Part 52

Approval and Promulgation of Implementation Plans

CFR Correction

In title 40 of the Code of Federal Regulations, part 52 (§§ 52.01 to 52.1018), revised as of July 1, 2007, on page 250, in § 52.229, in paragraph (c), in the first sentence, remove the word “anderfere” and replace it with the words “and no analysis has been presented to show that this rescission will not interfere”.

[FR Doc. E8-13916 Filed 6-18-08; 8:45 am]

BILLING CODE 1505-01-D